DEPARTMENT OF THE TREASURY

Fiscal Service

Senior Executive Service; Fiscal Service Performance Review Board

AGENCY: Bureau of the Fiscal Service, Treasury.

ACTION: Notice of appointments to the Fiscal Service Performance Review Board.

SUMMARY: This notice announces the appointment of the members of the Fiscal Service Performance Review Board (PRB) for the Bureau of the Fiscal Service (Fiscal Service). The PRB reviews the performance appraisals of career senior executives who are below the level of Assistant Commissioner/Executive Director and who are not assigned to the Office of the Commissioner in the Fiscal Service. The PRB makes recommendations regarding proposed performance appraisals, ratings, bonuses, pay adjustments, and other appropriate personnel actions.

DATES: Applicable on November 20, 2018.

FOR FURTHER INFORMATION CONTACT: Angela L. Jones, Human Capital Officer, Bureau of the Fiscal Service, (304) 480-8299.

SUPPLEMENTARY INFORMATION: This Notice announces the appointment of the following primary and alternate members to the Fiscal Service PRB:

Primary Members

Stephen L. Manning, Deputy Commissioner, Finance & Administration, Fiscal Service

Theresa J. Kohler, Assistant Commissioner, Management, Fiscal Service

Ronda L. Kent, Assistant Commissioner, Payment Management, Fiscal Service

Alternate Member

Marisa F. Schmader, Deputy Assistant Commissioner, Fiscal Accounting, Fiscal Service

Authority: 5 U.S.C. Section 4314(c)(4).

Stephen L. Manning,
Deputy Commissioner, Finance and Administration, Bureau of the Fiscal Service.

[FR Doc. 2018-25225 Filed 11-19-18; 8:45 am]

BILLING CODE 4810-AS-P